DEPARTMENT OF COMMERCE

International Trade Administration

[A-475-836, A-580-891, A-412-826, A-469-816, A-791-823, A-489-831, A-823-816]

Carbon and Alloy Steel Wire Rod From Italy, the Republic of Korea, the Republic of South Africa, Spain, the Republic of Turkey, Ukraine and the United Kingdom: Postponement of Preliminary Determinations in the Less-Than-Fair-Value Investigations

AGENCY: Enforcement and Compliance, International Trade Administration, Department of Commerce.

DATES: Applicable August 21, 2017.

FOR FURTHER INFORMATION CONTACT: Victoria Cho at (202) 482-5075 (Italy); Lingjun Wang at (202) 482-2316 (the Republic of Korea (Korea)); Alice Maldonado at (202) 482-4682 (the United Kindgom (UK)); Davina Friedmann at (202) 482-0698 (Spain); Moses Song at (202) 482-5041 (the Republic of South Africa (South Africa)); Ryan Mullen at (202) 482-5260 (the Republic of Turkey (Turkey)); and Julia Hancock at (202) 482-1394 (Ukraine), AD/CVD Operations, Enforcement and Compliance, International Trade Administration, U.S. Department of Commerce, 1401 Constitution Avenue NW., Washington, DC 20230.

SUPPLEMENTARY INFORMATION:

Background

On April 17, 2017, the Department of Commerce (the Department) initiated less-than-fair-value (LTFV) investigations of imports of carbon and alloy steel wire rod (wire rod) from Italy, Korea, South Africa, Spain, Turkey, Ukraine, and the UK.¹ Currently, the preliminary determinations are due no later than September 5, 2017.²

¹ See Carbon and Alloy Steel Wire Rod from Belarus, Italy, the Republic of Korea, the Russian Federation, South Africa, Spain, the Republic of Turkey, Ukraine, United Arab Emirates, and United Kingdom: Initiation of Less-Than-Fair-Value Investigations, 82 FR19207 (April 20, 2017) (Initiation Notice).

² The statutory deadline is actually September 4, 2017, which is a federal holiday. It is the Department's practice that where a deadline falls on a weekend or federal holiday, the appropriate deadline is the next business day. See Notice of Clarification: Application of “Next Business Day” Rule for Administrative Determination Deadlines Pursuant to the Tariff Act of 1930, As Amended, 70 FR 24533 (May 10, 2005).

Postponement of Preliminary Determinations

Section 733(b)(1)(A) of the Tariff Act of 1930, as amended (the Act), requires the Department to issue the preliminary determination in a LTFV investigation within 140 days after the date on which the Department initiated the investigation. However, section 733(c)(1)(A)(b)(1) of the Act permits the Department to postpone the preliminary determination until no later than 190 days after the date on which the Department initiated the investigation if: (A) The petitioner makes a timely request for a postponement; or (B) the Department concludes that the parties concerned are cooperating, that the investigation is extraordinarily complicated, and that additional time is necessary to make a preliminary determination. Under 19 CFR 351.205(e), the petitioner must submit a request for postponement 25 days or more before the scheduled date of the preliminary determination and must state the reasons for the request. The Department will grant the request unless it finds compelling reasons to deny the request.

On August 11, 2017, the petitioners ³ submitted a timely request that the Department postpone the preliminary determinations in these LTFV investigations.⁴ The petitioners stated that they request postponement because the Department is still gathering data and questionnaire responses from the foreign producers in these investigations, and that additional time is necessary for the Department and interested parties to fully and properly analyze all questionnaire responses, and to facilitate analysis of and the submission of comments and new factual information.⁵

³ The petitioners are Gerdau Ameristeel US Inc., Keystone Consolidated Industries Inc., Charter Steel, and Nucor Corporation.

⁴ See Kelley, Drye, and Warren, LLP's August 11, 2017, submission; see also Wiley Rein, LLP's August 11, 2017, submissions.

⁵ Id.

For the reasons stated above, and because there are no compelling reasons to deny the request, the Department, in accordance with section 733(c)(1)(A) of the Act, is postponing the deadline for the preliminary determinations by 50 days (i.e., 190 days after the date on which these investigations were initiated). As a result, the Department will issue its preliminary determinations no later than October 24, 2017. In accordance with section 735(a)(1) of the Act and 19 CFR 351.210(b)(1), the deadline for the final determinations of these investigations will continue to be 75 days after the date of publication of the preliminary determinations, unless postponed at a later date.

This notice is issued and published pursuant to section 733(c)(2) of the Act and 19 CFR 351.205(f)(1).

Dated: August 15, 2017.
Gary Taverman,
Deputy Assistant Secretary for Antidumping and Countervailing Duty Operations, performing the non-exclusive functions and duties of the Assistant Secretary for Enforcement and Compliance.

[FR Doc. 2017-17620 Filed 8-18-17; 8:45 am]

BILLING CODE 3510-DS-P